NUCLEAR REGULATORY COMMISSION

722nd Meeting of the Advisory Committee on Reactor Safeguards (ACRS)

In accordance with the purposes of sections 29 and 182b of the Atomic Energy Act (42 U.S.C. 2039, 2232(b)), the Advisory Committee on Reactor Safeguards (ACRS) will hold meetings on February 5-7, 2025. The Committee will be conducting meetings that will include some Members being physically present at the headquarters of the U.S. Nuclear Regulatory Commission (NRC) while other Members participate remotely. Interested members of the public are encouraged to participate remotely in any open sessions via Microsoft (MS) Teams or via phone at 301-576-2978, passcode 103416569#. A more detailed agenda including the MSTeams link may be found at the ACRS public website at https://www.nrc.gov/reading-rm/doc-collections/acrs/agenda/index.html. If you would like the MSTeams link forwarded to you, please contact the Designated Federal Officer (DFO) as follows: Quynh.Nguyen@nrc.gov, or Lawrence.Burkhart@nrc.gov.

Wednesday, February 5, 2025

8:30 a.m.-8:35 a.m.: Opening Remarks by the ACRS Chair (Open)—The ACRS Chair will make opening remarks regarding the conduct of the meeting.

8:35 a.m.-10:30 a.m.: Regulatory Guide (RG) 3.78, Revision 0, Regarding Acceptable American Society of Mechanical Engineers (ASME) Section XI Inservice Inspection Code Cases for Title 10 of the Code of Federal Regulations (10 CFR) Part 72 (Open)—The Committee will discuss and deliberate on the subject topic.

10:30 a.m.-1:00 p.m.: Increased Enrichment Draft Rule Language and Associated Draft RGs Including RG 1.183, Revision 2 (Open)—The Committee will discuss and deliberate with the NRC staff and other stakeholders regarding the subject topics and proceed to preparation of reports.

1:00 p.m.-6:00 p.m.: Committee Deliberation on Increased Enrichment Draft Rule Language and Associated Draft RGs Including RG 1.183, Revision 2 (Open)—The Committee will deliberate on the subject topic and proceed to preparation of reports.

Thursday, February 6, 2025

8:30 a.m.-5:00 p.m.: NuScale Loss-of-Coolant Accident Evaluation Model Topical Report and Continued Committee Deliberation on Increased Enrichment and RG 1.183, Revision 2, Topics (Open/Closed)—The Committee will deliberate with the NRC staff regarding the subject topic and proceed to preparation of reports. [NOTE: Pursuant to 5 U.S.C 552b(c)(4), a portion of this session may be closed in order to discuss and protect information designated as proprietary.]

Friday, February 7, 2025

8:30 a.m.-5:00 p.m.: Planning and Procedures Session/Future ACRS Activities/Reconciliation of ACRS Comments and Recommendations/Preparation of Reports (Open/Closed)—The Committee will hear discussion of the recommendations of the Planning and Procedures Subcommittee regarding items proposed for consideration by the Full Committee during future ACRS meetings, and/or proceed to preparation of reports.

[Note: Pursuant to 5 U.S.C. 552b(c)(2), a portion of this meeting may be closed to discuss organizational and personnel matters that relate solely to internal personnel rules and practices of the ACRS.]

[Note: Pursuant to 5 U.S.C 552b(c)(4), a portion of this session may be closed in order to discuss and protect information designated as proprietary.].

Procedures for the conduct of and participation in ACRS meetings were published in the Federal Register on June 13, 2019 (84 FR 27662). In accordance with those procedures, oral or written views may be presented by members of the public, including representatives of the nuclear industry. Persons desiring to make oral statements should notify Quynh Nguyen, Cognizant ACRS Staff and the DFO (Telephone: 301-415-5844, Email: Quynh.Nguyen@nrc.gov), 5 days before the meeting, if possible, so that appropriate arrangements can be made to allow necessary time during the meeting for such statements. In view of the possibility that the schedule for ACRS meetings may be adjusted by the Chair as necessary to facilitate the conduct of the meeting, persons planning to attend should check with the cognizant ACRS staff if such rescheduling would result in major inconvenience.

An electronic copy of each presentation should be emailed to the cognizant ACRS staff at least one day before the meeting.

In accordance with subsection 10(d) of Public Law 92-463 and 5 U.S.C. 552b(c), certain portions of this meeting may be closed, as specifically noted above. Use of still, motion picture, and television cameras during the meeting may be limited to selected portions of the meeting as determined by the Chair. Electronic recordings will be permitted only during the open portions of the meeting.

ACRS meeting agendas, meeting transcripts, and letter reports are available through the NRC Public Document Room (PDR) at pdr.resource@nrc.gov, or by calling the PDR at 1-800-397-4209, or 301-415-4737, between 8 a.m. and 4 p.m. eastern daylight time (EDT), Monday through Friday, except Federal holidays, or from the Publicly Available Records System component of NRC's Agencywide Documents Access and Management System, which is accessible from the NRC website at https://www.nrc.gov/reading-rm/adams.html or https://www.nrc.gov/reading-rm/doc-collections/#ACRS/.

Dated: December 30, 2024.
For the Nuclear Regulatory Commission
Russell E. Chazell,
Federal Advisory Committee Management Officer, Office of the Secretary.

[FR Doc. 2024-31633 Filed 1-3-25; 8:45 am]

BILLING CODE 7590-01-P